DEPARTMENT OF THE INTERIOR

Fish and Wildlife Service

[FWS-R4-R-2009-N0084] [41510-1261-0000-4A]

Proposed Information Collection; Economic Valuation and Visitor Satisfaction Survey, Crystal River National Wildlife Refuge

AGENCY: Fish and Wildlife Service, Interior.

ACTION: Notice; request for comments.

SUMMARY: We (Fish and Wildlife Service) will ask the Office of Management and Budget (OMB) to approve the information collection (IC) described below. As required by the Paperwork Reduction Act of 1995 and as part of our continuing efforts to reduce paperwork and respondent burden, we invite the general public and other Federal agencies to take this opportunity to comment on this IC. We may not conduct or sponsor and a person is not required to respond to a collection of information unless it displays a currently valid OMB control number.

DATES: Your comments must be received by June 22, 2009.

ADDRESSES: Send your comments on the IC to Hope Grey, Information Collection Clearance Officer, Fish and Wildlife Service, MS 222-ARLSQ, 4401 North Fairfax Drive, Arlington, VA 22203 (mail); hope_grey@fws.gov (e-mail).

FOR FURTHER INFORMATION CONTACT: To request additional information about this IC, contact Hope Grey by mail or e-mail (see ADDRESSES) or by telephone at (703) 358-2482.

SUPPLEMENTARY INFORMATION:

I. Abstract

The Crystal River National Wildlife Refuge is developing a Comprehensive Conservation Plan (CCP), a 15-year planning document, to chart the course of future management options on the refuge. The refuge was established in 1983 for the purpose of protecting the Florida manatee, an endangered species.

Citrus County, where the refuge is located, is heavily dependent on manatee ecotourism as a source of tourist revenue. Local tour operators conduct manatee-human interactions in the form of “swim with” the manatee programs, which have become enormously popular over the years. Citrus County widely advertises and encourages visitors to come from around the world to have this unique experience. We manage ecotourism activities cooperatively with local tour operators through special use permits that impose conditions on activities conducted within the refuge. One condition is that operators must provide educational materials to their customers related to manatee-human interactions.

We have signed a challenge cost-share agreement with the Department of Community Services, Citrus County, to conduct a survey to obtain information to:

(1) Evaluate present and future use levels by the public, and

(2) Determine the quality and viability of manatee ecotourism experiences.

The county will contract with a private consulting firm to develop and conduct the survey, analyze the data, and provide the results to the Service and the county. The proposed survey will gather information from visitors regarding their experience while visiting Citrus County and the purpose for their visit, including specific questions related to manatee viewing. The report will not include any personal information about the participants and will only include information regarding the present and future public use levels on the refuge, as well as a determination of the quality and viability of manatee ecotourism experiences. The information collected will provide data to:

(1) Support future refuge decisions to ensure protection of manatees while providing quality experiences for visitors.

(2) Aid local business interests in providing quality ecotourism experiences.

II. Data

OMB Control Number: None. This is a new collection.

Title: Economic Valuation and Visitor Satisfaction Survey, Crystal River National Wildlife Refuge.

Service Form Number(s): None.

Type of Request: New.

Affected Public: Visitors to Crystal River National Wildlife Refuge and Citrus County, Florida.

Respondent's Obligation: Voluntary.

Frequency of Collection: One time.

Estimated Annual Number of Respondents: 500.

Estimated Total Annual Responses: 500.

Estimated Time Per Response: 15 minutes.

Estimated Total Annual Burden Hours: 125.

III. Request for Comments

We invite comments concerning this IC on:

(1) whether or not the collection of information is necessary, including whether or not the information will have practical utility;

(2) the accuracy of our estimate of the burden for this collection of information;

(3) ways to enhance the quality, utility, and clarity of the information to be collected; and

(4) ways to minimize the burden of the collection of information on respondents.

Comments that you submit in response to this notice are a matter of public record. We will include or summarize each comment in our request to OMB to approve this IC. Before including your address, phone number, e-mail address, or other personal identifying information in your comment, you should be aware that your entire comment, including your personal identifying information, may be made publicly available at any time. While you can ask us in your comment to withhold your personal identifying information from public review, we cannot guarantee that we will be able to do so.

Dated: April 15, 2009
Hope Grey,
Information Collection Clearance Officer, Fish and Wildlife Service.

FR Doc. E9-9284 Filed 4-21-09; 8:45 am

BILLING CODE 4310-55-S